DEPARTMENT OF JUSTICE

Antitrust Division

Notice Pursuant to the National Cooperative Research and Production Act of 1993—Mobile Wireless Internet Forum

Notice is hereby given that, on July 18, 2002, pursuant to section 6(a) of the National Cooperative Research and Production Act of 1993, 15 U.S.C. 4301 et seq. (“the Act”), Mobile Wireless Internet Forum has filed written notifications simultaneously with the Attorney General and the Federal Trade Commission disclosing changes in its membership status. The notifications were filed for the purpose of extending the Act's provisions limiting the recovery of antitrust plaintiffs to actual damages under specified circumstances. Specifically, Industrial Technology Research Institute, Chutung, Hsinchu, Taiwan; Kooconsult Limited, Cape Coast, Central, Ghana; Mindwings, Milpitas, CA; National Tsing Hua University, Hsinchu, Taiwan; Si-Tech Information Technology, Ltd., Beijing, People's Republic of China; Turkcell, Kartal, Turkey; and ZTE Corporation, Shenzhen, People's Republic of China have been added as parties to this venture.

Also, ADC Telecommunications, Minneapolis, MN; Aepona Telecoms, Belfast, United Kingdom; Avian Communications, Marlborough, MA; Cimi Networks, Littleton, MA; Commworks, a 3Com Company, Rolling Meadows, IL; Compaq Computer Corporation, Omaha, NE; Converse Networks Systems, Wakefield, MA; Contela, Sungnamsi, Republic of Korea; Convergys Corporation, Cincinnati, OH; Fujitsu, Kawasaki, Japan; Genista, Tokyo, Japan; Gtran, Westlake Village, CA; Halfdome Systems, Milpitas, CA; Hitachi, Yokohama, Japan; IBM Corporation, White Plains, NY; inOvate Communications Group, San Ramon, CA; Interwave Communications, Menlo Park, CA; KWISF, Daejeon City, Republic of Korea; Lacuna Network Technologies, Bethesda, MD; Lucent, Naperville, IL; Malibu Networks, El Dorado Hills, CA; Marconi Communications, Coventry, New Century Park, United Kingdom; Megistro Systems, Germantown, MD; Motorola, Schaumburt, IL; Mspect, Sunnyvale, CA; NARUS, Inc., Palo Alto, CA; NetMotion Wireless, Seattle, WA; OKI Electric Industry, Tokyo, Japan; Openwave, Temple Terrace, FL; Packet Machine, Tel Aviv, Israel; Partner Communications, Rosh Ha'ayin, Israel; Siemens, Munich, Germany; SK Telecom, Sungnam City, Kyunggi-do, Republic of Korea; SkyTel Communications, Jackson, MS; Sonera Corporation, Sonera, Finland; Sony, Tokyo, Japan; Strix Systems, Westlake Village, CA; Tahoe Networks, Los Altos, CA; Tait Electronics, Ltd., Christchurch, New Zealand; Tekelec, Morrisville, NC; Telefonica Moviles, Madrid, Spain; TIW, Montreal, Quebec, Canada; Transcept, Manchester, NH; Trillium Digital Systems, Los Angeles, CA; Verizon Wireless, Walnut Creek, CA; VoiceStream Wireless, Carlsbad, CA; Winphoria Networks, Tewksbury, MA; and Zhone, Oakland, CA have been dropped as parties to this venture.

No other changes have been made in either the membership or planned activity of the group research project. Membership in this group research project remains open, and Mobile Wireless Internet Forum intends to file additional written notification disclosing all changes in membership.

On May 25, 2000, Mobile Wireless Internet Forum filed its original notification pursuant to section 6(a) of the Act. The Department of Justice published a notice in the Federal Register pursuant to section 6(b) of the Act on August 11, 2000 (65 FR 49264).

The last notification was filed with the Department on August 16, 2001. A notice was published in the Federal Register pursuant to section 6(b) of the Act on September 25, 2001 (66 FR 49043).

Constance K. Robinson,
Director of Operations, Antitrust Division.

[FR Doc. 02-22453 Filed 9-3-02; 8:45 am]

BILLING CODE 4410-11-M